DEPARTMENT OF LABOR

Mine Safety and Health Administration

Petitions for Modification

The following parties have filed petitions to modify the application of existing safety standards under section 101(c) of the Federal Mine Safety and Health Act of 1977.

1. Independence Coal Company, Inc.

[Docket No. M-2003-006-C]

Independence Coal Company, Inc., HC 78 Box 1800, Madison, West Virginia has filed a petition to modify the application of 30 CFR 75.1002 (Installation of electric equipment and conductors; permissibility) at its White Oak Deep Mine (MSHA I.D. No. 46-08933) located in Boone County, West Virginia. The petitioner would like to use a 2400-volt power center to power a continuous miner with high-voltage trailing cable inby the last open crosscut and within 150 feet of pillar workings. The petitioner has outlined in this petition specific terms and conditions that will be used to protect the 2400-volt trailing cable. The petitioner requests an amendment to its previous petition for modification, docket number M-2002-041-C, to allow the HV trailing cable to be treated just as the 995-volt trailing cable without jeopardizing any safety issues.

2. Independence Coal Company, Inc.

[Docket No. M-2003-007-C]

Independence Coal Company, Inc., HC 78 Box 1800, Madison, West Virginia has filed a petition to modify the application of 30 CFR 75.1002 (Installation of electric equipment and conductors; permissibility) at its Jack's Branch Buffalo Creek Mine (MSHA I.D. No. 46-08513) located in Boone County, West Virginia. The petitioner would like to use a 2400-volt power center to power a continuous miner with high-voltage trailing cable inby the last open crosscut and within 150 feet of pillar workings. The petitioner has outlined in this petition specific terms and conditions that will be used to protect the 2400-volt trailing cable. The petitioner requests an amendment to its previous petition for modification, docket number M-2002-041-C, to allow the HV trailing cable to be treated just as the 995-volt trailing cable without jeopardizing any safety issues.

3. KenAmerican Resources, Inc.

[Docket No. M-2003-008-C]

KenAmerican Resources, Inc., 7590 State Route 181, Central City, Kentucky 42330 has filed a petition to modify the application of 30 CFR 75.519-1(b) (Main power circuits; disconnecting switches; locations) at its Paradise Mine (MSHA I.D. No. 15-17741) located in Muhlenberg County, Kentucky. The existing standard requires that “in an instance on which a main power circuit enters the underground area through a shaft or borehole, a disconnecting switch be installed underground within 500 feet of the bottom of the safe or borehole.” The petitioner proposes to move its disconnecting switch to the main travelway in the 2nd crosscut from the slope bottom. The switch will be located approximately 750 feet-800 feet of cable length from the bottom of the power borehole. The petitioner states that its proposed alternative method would allow them to put additional roof support in the area where the switch is presently located. The petitioner asserts that the proposed alternative method would provide at least the same measure of protection as the existing standard.

4. Alfred Brown Coal Company

[Docket No. M-2003-009-C]

Alfred Brown Coal Company, 71 Hill Road, Hegins, Pennsylvania 17938 has filed a petition to modify the application of 30 CFR 49.2(b) (Availability of mine rescue teams) at its 7 Ft. Slope Mine (MSHA I.D. No. 36-08893) located in Schuylkill County, Pennsylvania. The petitioner requests a modification of the standard to permit the reduction of two mine rescue teams with five members and one alternate each, to two mine rescue teams of three members with one alternate for either team. The petitioner asserts that an attempt to utilize five or more rescue team members in the mine's confined working places would result in diminution of safety to both the miners at the mine and members of the rescue team.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before March 21, 2003. Copies of these petitions are available for inspection at that address.

Dated at Arlington, Virginia this 11th day of February 2003.
Marvin W. Nichols, Jr.,
Director, Office of Standards, Regulations, and Variances.

[FR Doc. 03-3881 Filed 2-18-03; 8:45 am]

BILLING CODE 4510-43-P